DEPARTMENT OF ENERGY

Federal Energy Regulatory Commission

[Project No. 2079-063]

Placer County Water Agency; Notice Dismissing Pleading

May 19, 2009.

On March 26, 2009, the Commission issued Placer County Water Agency, licensee for the Middle Fork Hydroelectric Project No. 2079, a Statement of Annual Charges for U.S. Lands for fiscal year (FY) 2009. On April 26, 2009, the licensee filed a request for rehearing of the FY 2009 annual charge bill and on May 6, 2009, the licensee filed a timely appeal of its FY 2009 annual charge bill, which is still pending.

Pursuant to section 11.20 of the Commission's regulations,¹ if the licensee believes its annual charges bill is incorrect, the licensee may seek an appeal of its bill with the Chief Financial Officer within 45 days after the bill's rendition. Subsequently, the licensee may seek rehearing within 30 days after the Chief Financial Officer's decision on the appeal. As noted above, the licensee's appeal for its FY 2009 annual charge bill is still pending. Therefore, the licensee's request for rehearing is dismissed as premature.

¹ 18 CFR 11.20 (2008).

This notice constitutes final agency action. Request for rehearing of this dismissal notice must be filed within 30 days of the date of issuance of this notice, pursuant to 18 CFR 385.713 (2008).

Kimberly D. Bose,
Secretary.

[FR Doc. E9-12213 Filed 5-26-09; 8:45 am]

BILLING CODE 6717-01-P